DEPARTMENT OF HOMELAND SECURITY

U.S. Customs and Border Protection

DEPARTMENT OF THE TREASURY

19 CFR Part 24

Customs Financial and Accounting Procedure

CFR Correction

In Title 19 of the Code of Federal Regulations, parts 0 to 140, revised as of April 1, 2015, on page 596, in § 24.22, in paragraph (g)(7), remove the term “Customs” and add “CBP” in its place.

[FR Doc. 2016-07560 Filed 3-31-16; 8:45 am]

BILLING CODE 1505-01-D